DEPARTMENT OF THE INTERIOR

Fish and Wildlife Service

Notice of Intent To Prepare a Comprehensive Conservation Plan

AGENCY: Fish and Wildlife Service, Interior.

ACTION: Notice; extension of comment period.

SUMMARY: We are extending the period for the submission of comments on two documents related to the Sacramento River National Wildlife Refuge. This action will provide the public with additional time to participate in the planning process of developing these documents.

DATES: Comments must be received by October 19, 2001.

ADDRESSES: Send written comments to the following address: Planning Team Leader—Sacramento River NWR, California/Nevada Refuge Planning Office, U.S. Fish and Wildlife Service, 2800 Cottage Way, W-1916, Sacramento, California, 95825. Written comments may also be sent by facsimile to (916) 414-6512.

FOR FURTHER INFORMATION CONTACT: Mr. Miki Fujitsubo, Planning Team Leader, (916) 414-6507.

SUPPLEMENTARY INFORMATION: We published a notice in June 11, 2001, Federal Register (66 FR 31247) announcing that the Service is preparing a Comprehensive Conservation Plan (CCP) and National Environmental Policy Act document for the Sacramento River National Wildlife Refuge. The Refuge is located in Butte, Glenn, and Tehama Counties, California. As discussed in the notice, we are preparing the CCP to comply with the National Wildlife Refuge System Administration Act of 1966. The notice stated that comments should be received by July 11, 2001. We have decided to allow the public additional time to submit comments and have extended the public comment period to October 19, 2001.

Authority: The authority for this action is Notice of Intent (66 FR 31247).

Dated: September 17, 2001.
Daniel S. Walsworth,
Acting Manager, California/Nevada Operations Office, Region 1, U.S. Fish and Wildlife Service.

[FR Doc. 01-23724 Filed 9-21-01; 8:45 am]

BILLING CODE 4310-55-P